DEPARTMENT OF THE TREASURY

Submission for OMB Review; Comment Request

March 25, 2014.

The Department of the Treasury will submit the following information collection requests to the Office of Management and Budget (OMB) for review and clearance in accordance with the Paperwork Reduction Act of 1995, Public Law 104-13, on or after the date of publication of this notice.

DATES: Comments should be received on or before April 28, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141-D, Washington, DC 20220, or email at PRA@treasury.gov.

FOR FURTHER INFORMATION CONTACT: Copies of the submission(s) may be obtained by calling (202) 622-1295, email at PRA@treasury.gov, or the entire information collection request may be found at www.reginfo.gov.

Alcohol and Tobacco Tax and Trade Bureau (TTB)

OMB Number: 1513-0001.

Type of Review: Extension without change of a currently approved collection.

Title: Tax Information Authorization.

Form: TTB F 5000.19.

Abstract: TTB F 5000.19 is required by TTB to be filed when a respondent's representative, not having a power of attorney, wishes to obtain confidential information regarding the respondent. After proper completion of the form, information can be released to the representative. TTB uses this form to properly identify the representative and his/her authority to obtain confidential information.

Affected Public: Private Sector: Businesses or other for-profits; Individuals or Households.

Estimated Annual Burden Hours: 50.

OMB Number: 1513-0003.

Type of Review: Extension without change of a currently approved collection.

Title: Referral of Information.

Form: TTB F 5000.21.

Abstract: When we discover potential violations of Federal, State, or local law, we use TTB F 5000.21 to make referrals to Federal, State, or local agencies to determine if they plan to take action, and to internally refer potential violations of TTB administered statutes. We also use TTB F 5000.21 to evaluate the effectiveness of these referrals.

Affected Public: State, Local, and Tribal Governments; Federal Government.

Estimated Annual Burden Hours: 500.

OMB Number: 1513-0015.

Type of Review: Revision of a currently approved collection.

Title: Brewer's Bond and Brewer's Bond Continuation Certificate/Brewer's Collateral Bond and Brewer's Collateral Bond Continuation Certificate.

Form: TTB F 5130.22; 5130.23, 5130.25, and 5130.27.

Abstract: The Internal Revenue Code requires brewers to give a bond to protect the revenue and to ensure compliance with the requirements of law and regulations, and the Continuation Certificate is used to renew the bond every 4 years after the initial bond is obtained. Bonds and continuation certificate are required by law and are necessary to protect government interests in the excise tax revenues that brewers pay.

Affected Public: Private Sector: Businesses or other for-profits.

Estimated Annual Burden Hours: 970.

Dawn D. Wolfgang,
Treasury PRA Clearance Officer.

[FR Doc. 2014-06901 Filed 3-27-14; 8:45 am]

BILLING CODE 4810-31-P